DEPARTMENT OF STATE

[Public Notice: 12270]

Designation of Akram al-Ajouri as a Specially Designated Global Terrorist

Acting under the authority of and in accordance with section 1(a)(ii)(B) of Executive Order 13224, as amended (“E.O. 13224” or “Order”), I hereby determine that the person known as Akram al-Ajouri (also known as Akram al-`Ajuri, Akram Muhammad Salih al-Ajuri, Abu Muhammad al-`Ajuri, and `Abd al-Karim Ahmad Hasan) is a leader of the Palestinian Islamic Jihad, an entity whose property and interests in property are currently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: November 6, 2023.
Antony J. Blinken,
Secretary of State.

[FR Doc. 2023-26104 Filed 11-27-23; 8:45 am]

BILLING CODE 4710-AD-P